DEPARTMENT OF STATE

[Public Notice 7843]

60-Day Notice of Proposed Information Collection: Civilian Response Corps Database In-Processing Electronic Form, OMB Control Number 1405-0168, Form DS-4096

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Civilian Response Corps Database In-Processing Electronic Form.

• OMB Control Number: 1405-0168.

• Type of Request: Extension of a Currently Approved Collection.

• Originating Office: Bureau of Conflict and Stabilization Operations (CSO).

• Form Numbers: DS-4096.

• Respondents: Individuals who are members of or apply for one or more of the three components of the Civilian Response Corps (Active, Standby and Expert Corps).

• Estimated Number of Respondents: 2000 per year.

• Estimated Number of Responses: 2000 per year.

• Average Hours per Response: 1 hour.

• Total Estimated Burden: 2000 Hours.

• Frequency: On occasion.

• Obligation to Respond: Required to receive benefits.

DATE(S): The Department will accept comments from the public up to 60 days from April 10, 2012.

ADDRESSES FOR COMMENTS AND FURTHER INFORMATION: You may submit comments and request for further information by either of the following methods:

• Email: CRCcomments@state.gov.

• Mail (paper, disk, or CD-ROM submissions): CRC Comments, Suite 1150, 1900 North Kent Street, Rosslyn, VA 22202.

You must include the DS form number (if applicable), information collection title, and OMB control number in any correspondence.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

The information collected is an important part of the Department's responsibility to coordinate U.S. Government planning; institutionalize U.S. conflict prevention and stabilization capacity; and help stabilize societies in transition from conflict or civil strife so they can reach a sustainable path toward peace, democracy, and a market economy. The information gathered will be used to identify Civilian Response Corps members who are available to participate in CRC missions.

Methodology:

Respondents will complete an electronic DS-4096 application via the Web site (www.crs.state.gov).

Dated: March 30, 2012.
John C. Roberts,
Director of Civilian Response Operations, Office of the Coordinator for Reconstruction & Stabilization, Department of State.

[FR Doc. 2012-8635 Filed 4-9-12; 8:45 am]

BILLING CODE 4710-02-P